DEPARTMENT OF ENERGY

Federal Energy Regulatory Commission

Combined Notice of Filings

Take notice that the Commission has received the following Natural Gas Pipeline Rate and Refund Report filings:

Docket Numbers: RP19-1340-000.

Applicants: Viking Gas Transmission Company.

Description: Report Filing: Refund Report.

Filed Date: 8/28/20.

Accession Number: 20200828-5021.

Comments Due: 5 p.m. ET 9/9/20.

Docket Numbers: RP20-1124-000.

Applicants: Transcontinental Gas Pipe Line Company, LLC.

Description: § 4(d) Rate Filing: 2020 ACA Tracker Filing—GSS, LSS, SS-2 & S-2 to be effective 10/1/2020.

Filed Date: 8/28/20.

Accession Number: 20200828-5015.

Comments Due: 5 p.m. ET 9/9/20.

Docket Numbers: RP20-1125-000.

Applicants: Texas Eastern Transmission, LP.

Description: Compliance filing 2020 Operational Entitlements Filing.

Filed Date: 8/28/20.

Accession Number: 20200828-5023.

Comments Due: 5 p.m. ET 9/9/20.

Docket Numbers: RP20-1126-000.

Applicants: TransColorado Gas Transmission Company LLC.

Description: § 4(d) Rate Filing: Quarterly Fuel and L&U Percentage Update to be effective 10/1/2020.

Filed Date: 8/28/20.

Accession Number: 20200828-5035.

Comments Due: 5 p.m. ET 9/9/20.

Docket Numbers: RP20-1127-000.

Applicants: Rockies Express Pipeline LLC.

Description: § 4(d) Rate Filing: REX 2020-08-28 Negotiated Rate Agreement to be effective 9/1/2020.

Filed Date: 8/28/20.

Accession Number: 20200828-5057.

Comments Due: 5 p.m. ET 9/9/20.

Docket Numbers: RP20-1128-000.

Applicants: Colorado Interstate Gas Company, L.L.C.

Description: § 4(d) Rate Filing: Annual Fuel and LUF True Up Filing to be effective 10/1/2020.

Filed Date: 8/28/20.

Accession Number: 20200828-5058.

Comments Due: 5 p.m. ET 9/9/20.

Docket Numbers: RP20-1129-000.

Applicants: Texas Eastern Transmission, LP.

Description: § 4(d) Rate Filing: Negotiated Rates—Chevron 911109 Releases eff 9-1-2020 to be effective9/1/2020.

Filed Date: 8/28/20.

Accession Number: 20200828-5118.

Comments Due: 5 p.m. ET 9/9/20.

Docket Numbers: RP20-1130-000.

Applicants: El Paso Natural Gas Company, L.L.C.

Description: § 4(d) Rate Filing: Negotiated Rate Update Filing (Conoco Sept 20) to be effective 9/1/2020.

Filed Date: 8/28/20.

Accession Number: 20200828-5135.

Comments Due: 5 p.m. ET 9/9/20.

Docket Numbers: RP20-1131-000.

Applicants: Transcontinental Gas Pipe Line Company, LLC.

Description: § 4(d) Rate Filing: Negotiated Rates—Cherokee AGL—Replacement Shippers—Sep 2020 to be effective 9/1/2020.

Filed Date: 8/28/20.

Accession Number: 20200828-5153.

Comments Due: 5 p.m. ET 9/9/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 31, 2020.
Nathaniel J. Davis, Sr.,
Deputy Secretary.

[FR Doc. 2020-19616 Filed 9-3-20; 8:45 am]

BILLING CODE 6717-01-P